NATIONAL AERONAUTICS AND SPACE ADMINISTRATION

[Notice 04-063]

Government-Owned Inventions, Available for Licensing

AGENCY: National Aeronautics and Space Administration.

ACTION: Notice of Availability of Inventions for Licensing.

SUMMARY: The inventions listed below are assigned to the National Aeronautics and Space Administration, have been filed in the United States Patent and Trademark Office, and are available for licensing.

DATES: May 18, 2004.

FOR FURTHER INFORMATION CONTACT: Rob M. Padilla, Patent Counsel, Ames Research Center, Code 202A-4, Moffett Field, CA 94035-1000; telephone (650) 604-5104; fax (650) 604-2767.

NASA Case No. ARC-14743-1: High-Efficiency Tantalum-Based Ceramic Composite Structures (HETC);

NASA Case No. ARC 14970-1: Intelligent Weather Agent;

NASA Case No. ARC 15042-2: Metallic Nanowire Interconnections For Integrated Circuit Fabrication;

NASA Case No. ARC 15051-1: Bucky Paper System For Treatment of Acute Wounds;

NASA Case No. ARC 15058-1: Inductive Monitoring System Constructed From Nominal System Data And Its Use In Real-Time System Monitoring;

NASA Case No. ARC 15101-1: Powder Handling Device For Analytical Instruments;

NASA Case No. ARC 15201-1: Toughened Uni-piece Fibrous Reinforced Oxidation-Resistant Composite;

NASA Case No. ARC 15247-1: Bucky Paper System For Treatment Of Chronic Wounds.

Dated: May 12, 2004.
Keith T. Sefton,
Chief of Staff, Office of the General Counsel.

[FR Doc. 04-11171 Filed 5-17-04; 8:45 am]

BILLING CODE 7510-01-P